DEPARTMENT OF THE INTERIOR

Notice of Intent to Repatriate a Cultural Item: Minnesota Historical Society, St. Paul, MN

AGENCY: National Park Service, Interior.

ACTION: Notice.

Notice is here given in accordance with the Native American Graves Protection and Repatriation Act, 25 U.S.C. 3005, of the intent to repatriate a cultural item in the possession of the Minnesota Historical Society, St. Paul, MN, that meets the definition of ``sacred object'' under 25 U.S.C. 3001.

This notice is published as part of the National Park Service's administrative responsibilities under NAGPRA, 25 U.S.C. 3003 (d)(3). The determinations in this notice are the sole responsibility of the museum, institution, or Federal agency that has control of the cultural item. The National Park Service is not responsible for the determinations in this notice.

The one cultural item is a tree-dweller effigy figure (#6277.1). It is approximately 6 inches in height carved from birch or possibly poplar of a male figure in Santee Sioux style. Inked on the back of the figure with a quill pen nib is ”. . . 200 years in the Wabasha family.”

In 1922, the cultural item was acquired by the Minnesota Historical Society as a gift from the estate of Stephen Jewett, vice-president of the Security Bank of Faribault, Faribault, MN. The cultural item came into the collections wrapped in a sheet of Mueller & Faribault Real Estate and Financial Agents letterhead with handwritten comments by W. R. Faribault. It is not known how Mr. Faribault acquired the cultural item.

The cultural item is specifically documented in Plains Indian Sculpture: A Traditional Art from America's Heartland by John C. Ewers, which states that the cultural item ”. . . must be the oldest Tree-Dweller in any museum collection.” Mr. Ewers also notes that the “Santee Sioux respected the supernatural powers of Canhotdan, the Tree-Dweller, to help or harm the hunter.” Further documentation also notes that ”. . . the owners of these images are able to make them dance magically during the rites of the (Medicine Dance) society . . .. “ (Skinner, 1925).

During consultation, a family genealogy was presented showing that Mr. Ernest Wabasha (Wabasha VI) is a lineal descendant. Other direct descendants of the Wabasha line are Mr. Wabasha's children and grandchildren: Cheyanne St. John, Forrest St. John, Leonard Wabasha, Theresa Wabasha, and Winona Wabasha. This claim is also supported by members of the extended Wabasha family: Vera Hutter and Ernestine Ryan-Wabasha (sisters); and Jeanine Hutter, Kathy Ferdig, and Yvonne Hutter (nieces). It is believed the tree-dweller effigy figure may have been released by an individual or group that did not have the authority to alienate such an object from the Wabasha family or it may have been released to provide temporary protection for the object, as many members of the Wabasha family were held in the Fort Snelling internment camp in 1853, and many personal possessions were confiscated from tribal members at that time.

Mr. Ernest Wabasha (Wabasha VI) is the recognized hereditary Chief of the Dakota People and of the Wabasha (Mdewakanton Dakota) family, as well as keeper of the sacred bundle of the Wabasha family that originally owned the cultural item. Mr. Wabasha has identified the cultural item as necessary for the continued practice of traditional Dakota ceremonies by present-day adherents and has claimed them as a lineal descendant. Furthermore, Mr. Wabasha has communicated to the Minnesota Historical Society that the cultural item is needed for the practice of on-going ceremonial and religious traditions.

Officials of the Minnesota Historical Society have determined that, pursuant to 25 U.S.C. 3001 (3)(C), the cultural item described above is a specific ceremonial object needed by traditional Native American religious leaders for the practice of traditional Native American religions by their present-day adherents. Officials of the Minnesota Historical Society have also determined, pursuant to 25 U.S.C. 3005 (a)(5)(A), that Mr. Ernest Wabasha (Wabasha VI) can trace his ancestry directly and without interruption by means of the traditional kinship system of the Dakota and common law system of descent to a known Native American individual who controlled this cultural item.

Any other lineal descendant or representatives of any other Indian tribe that believes itself to be culturally affiliated with the sacred object should contact Marcia G. Anderson, NAGPRA Representative, Minnesota Historical Society, 345 Kellogg Boulevard West, St. Paul, MN 55102, telephone (651) 296-0150, before June 12, 2006. Repatriation of the sacred object to Mr. Ernest Wabasha (Wabasha VI) may proceed after that date if no additional claimants come forward.

Minnesota Historical Society is responsible for notifying Kathy Ferdig, Jeanine Hutter, Vera Hutter, Yvonne Hutter, Ernestine Ryan-Wabasha, Cheyanne St. John, Forrest St. John, Elroy Wabasha, Ernest Wabasha (Wabasha VI), Joseph Wabasha, Leonard Wabasha, Theresa Wabasha, Winona Wabasha, Lower Sioux Indian Community in the State of Minnesota, and Santee Sioux Nation, Nebraska that this notice has been published.

Dated: May 1, 2006
Sherry Hutt,
Manager, National NAGPRA Program.

[FR Doc. E6-7200 Filed 5-10-06; 8:45 am]

BILLING CODE 4312-50-S